DEPARTMENT OF THE INTERIOR

National Park Service

[NPS-WASO-CONC-32679; PPWOBSADC0, PPMVSCS1Y.Y00000]

Notice of Intent To Award a Sole-Source Concession Contract for Fire Island National Seashore

AGENCY: National Park Service, Interior.

ACTION: Notice of proposed award of sole-source concession contract for Fire Island National Seashore.

SUMMARY: Public notice is hereby given that the National Park Service proposes to award a sole-source concession contract for the conduct of certain visitor services within Fire Island National Seashore. The visitor services include marina operations, campground operations, food and beverage, and retail.

DATES: The term of the sole-source concession contract will commence (if awarded) no earlier than sixty (60) days from the publication of this notice, but the National Park Service intends for the term to begin January 1, 2022 (estimated) and end December 31, 2026.

FOR FURTHER INFORMATION CONTACT: Kurt Rausch, Program Chief, Commercial Services Program, National Park Service, 1849 C Street NW, Mail Stop 2410, Washington, DC 20240; Telephone: 202-513-7156.

SUPPLEMENTARY INFORMATION: Pursuant to 36 CFR 51.25, the Director of the National Park Service (Service) may award a concession contract non-competitively upon a determination that extraordinary circumstances exist under which compelling and equitable considerations require the award of the concession contract to a particular qualified person in the public interest and that such an award is otherwise consistent with the requirements of part 51. Contracts that are awarded non-competitively under this authority are commonly referred to as “sole-source” contracts. The Service has determined that the proposed award of a sole-source contract to Love Watch Hill and Sailors Haven, Inc. is necessary based on the following information.

The extraordinary circumstances in this instance occurred after the Service issued a prospectus for a long-term contract and are a combination of the unanticipated failure of the docks' electrical system, the complete loss of the restaurant in the Watch Hill area, and the COVID-19 pandemic. The Service exhausted the time allowed for temporary contracts authorized under 36 CFR 51.24 while addressing these complications and recognized that the loss of the restaurant, combined with the COVID-19 pandemic, altered the financial assumptions for any long-term contract compared with those used to develop the prospectus to the extent that the Service no longer could award the draft 10-year contract offered in the prospectus.

The Service has determined that Love Watch Hill and Sailors Haven, Inc. is a “qualified person” as defined by 36 CFR 51.3, and has determined that compelling and equitable considerations exist with Love Watch Hill and Sailors Haven, Inc.'s continued provision of visitor services under stresses that would have deterred or even driven away many operators. Additionally, Love Watch Hill and Sailors Haven, Inc. holds the insurance proceeds to be used for the construction of the new restaurant.

The Service has determined that the award of a sole-source concession contract is in the public interest because otherwise there would be no concessioner providing the visitor services or maintaining the government-owned facilities for at least two years.

This is not a request for proposals. The publication of this notice reflects the intent of the Service but does not bind the Service to award the sole-source contract. Should the Service award the sole-source contract, the NPS will ensure such award is otherwise consistent with the requirements of part 51.

Justin Unger,
Associate Director, Business Services.

[FR Doc. 2022-00657 Filed 1-18-22; 8:45 am]

BILLING CODE 4312-53-P